DEPARTMENT OF ENERGY

Energy Information Administration

Agency Information Collection Extension

AGENCY: U.S. Energy Information Administration (EIA), Department of Energy (DOE).

ACTION: Notice.

SUMMARY: EIA submitted an information collection request for extension as required by the Paperwork Reduction Act of 1995. The information collection requests a three-year extension of its Form GC-859 “Nuclear Fuel Data Survey,” OMB Control Number 1901- 0287. Form GC-859 collects data on spent nuclear fuel from all utilities that operate commercial nuclear reactors and from all others that possess irradiated fuel from commercial nuclear reactors.

DATES: Comments on this information collection must be received no later than November 25, 2022. Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Lindsay Aramayo, U.S. Energy Information Administration, telephone (202) 586-3264, or by email at lindsay.aramayo@eia.gov. The forms and instructions are available on EIA's website at www.eia.gov/survey/#gc-859.

SUPPLEMENTARY INFORMATION: This information collection request contains.

(1) OMB No. 1901- 0287;

(2) Information Collection Request Title: Nuclear Fuel Data Survey;

(3) Type of Request: Three-year extension with changes;

(4) Purpose: The Nuclear Waste Policy Act of 1982 (42 U.S.C. 10101 et seq.) authorized DOE to enter contracts with all generators or owners of spent nuclear fuel and high-level radioactive waste of domestic origin for the acceptance of title, subsequent transportation, and disposal of such waste or spent nuclear fuel. Form GC-859 (formerly Form RW-859) originated from an appendix to the Standard Contract for Disposal of Spent Nuclear Fuel and/or High-Level Radioactive Waste, 10 CFR 961 (“Standard Contract”).

Form GC-859 collects information on nuclear fuel use and spent fuel discharges from all utilities that operate commercial nuclear reactors and from all others that possess irradiated fuel from commercial nuclear reactors. The data collection provides stakeholders with detailed information concerning the spent nuclear fuel generated by the respondents (commercial utility generators of spent nuclear fuel and other owners of spent nuclear fuel within the U.S.).

Data collected from the survey are used by personnel from DOE Office of Nuclear Energy (NE), DOE Office of Environmental Management (EM), and the national laboratories to meet their research objectives of developing a range of options and supporting analyses that facilitate informed choices about how best to manage spent nuclear fuel (SNF).

(4a) Proposed Changes to Information Collection

• Collection method. DOE will provide respondents with an online platform to facilitate their responses. The Form GC-859 data collection system is automated. Respondents will also be provided with electronic files to aid in the current submittal and operating instructions for the software. To the greatest extent practicable, respondents will provide data either in the data collection system or as any commonly readable, present-day electronic spreadsheet file type. The following website will be used to submit data: https://gc859.pnnl.gov. Alternatively, a standalone copy of the submission software may be requested from the EIA GC-859 Survey Team contact identified earlier in the FOR FURTHER INFORMATION CONTACT section of this notice.

• Appendix E, Fuel Assembly Type Codes has been modified to include codes submitted on the 2018 data collection that were not already on the list, for the respondents convenience. A complete list of the Fuel Assembly Type Codes included on Appendix E may be requested from the EIA GC-859 Survey Team contact identified earlier in the FOR FURTHER INFORMATION CONTACT section of this notice.

(5) Annual Estimated Number of Respondents: 126;

(6) Annual Estimated Number of Total Responses: 42;

(7) Annual Estimated Number of Burden Hours: 3,707;

(8) Annual Estimated Reporting and Recordkeeping Cost Burden: The information is maintained in the normal course of business. The cost of the burden hours is estimated to be $309,090 (3,707 burden hours times $83.38 per hour).

EIA estimates that respondents will have no additional costs associated with the surveys other than the burden hours and the maintenance of the information during the normal course of business.

Statutory Authority: Section 13(b) of the Federal Energy Administration Act of 1974,

Public Law 93-275, codified as 15 U.S.C. 772(b) and the DOE Organization Act of 1977, Public Law 95-91, codified at 42 U.S.C. 7101 et seq., The Nuclear Waste Policy Act of 1982 codified at 42 U.S.C. 10222 et seq.

Signed in Washington, DC, on October 19, 2022.
Samson A. Adeshiyan,
Director, Office of Statistical Methods and Research, U.S. Energy Information Administration.

[FR Doc. 2022-23182 Filed 10-24-22; 8:45 am]

BILLING CODE 6450-01-P